DEPARTMENT OF LABOR

Occupational Safety and Health Administration

Agency Information Collection Activities; Announcement of Office of Management and Budget (OMB) control Numbers Under the Paperwork Reduction Act

AGENCY: Occupational Safety and Health Administration (OSHA), Labor.

ACTION: Notice, Announcement of OMB approval of information collection requirements.

SUMMARY: The Occupational Safety and Health Administration (OSHA) announces that the Office of Management and Budget (OMB) has extended its approval for a number of information collection requirements found in certain sections of 29 CFR parts 1910 and 1926. OSHA sought approval under the Paperwork Reduction Act of 1995 (PRA-95), and, as required by that Act, is announcing the approval numbers and expiration dates for those requirements.

EFFECTIVE DATE: This notice is effective February 5, 2004.

FOR FURTHER INFORMATION CONTACT: Todd Owen or Theda Kenney, Directorate of Standards and Guidance, Occupational Safety and Health administration, U.S. Department of Labor, Room N-3609, 200 Constitution Avenue, NW., Washington, DC 20210, telephone (202) 693-2222.

SUPPLEMENTARY INFORMATION: In a series of Federal Register notices, the Agency announced its requests to OMB to renew its current extensions of approvals for various information collection (paperwork) requirements in its safety and health standards for General and Construction Industries. In these Federal Register announcements, the Agency provided 60-day comment periods for the public to respond to OSHA's burden hour and cost estimates.

In accordance with PRA-95 (44 U.S.C. 3501-3520), OMB renewed its approval for these information collection requirements and assigned OMB control numbers to these requirements. The table below provides the following information for each of these OMB-approved requirements: The title of the collection; the date of the Federal Register notice; the Federal Register Reference (date, volume, and leading page); OMB's control number; and the new expiration date.

Title | Date of Federal Register publication, Federal Register reference, and OSHA docket number | OMB control number | Expiration date
Electrical Protective Equipment (29 CFR 1910.137) and Electric Power Generation, Transmission, Distribution (29 CFR 1910.269) | 7/30/2003, 68 FR 44816, Docket No. 1218-0190(2003) | 1218-0190 | 12/31/2006
Ethylene Oxide (EtO) (29 CFR 1910.1047) | 7/30/2003, 68 FR 44817, Docket No. 1218-0108(2003) | 1218-0108 | 12/31/2006
4,4′Methylenedianiline Construction (29 CFR 1926.60) | 7/17/2003, 68 FR 42429, Docket No. 1218-0183(2003) | 1218-0183 | 12/31/2006
4,4′Methylenedianiline General Industry (29 CFR 1910.1050) | 7/11/2003, FR 41401, Docket No. 1218-0184(2003) | 1218-0184 | 12/31/2006
Walking-Working Surfaces (29 CFR part 1910, Subpart D) | 7/01/2003, 68 FR 39153, Docket No. 1218-0199(2003) | 1218-0199 | 12/31/2006

In accordance with 5 CFR 1320.5(b), an agency cannot conduct, sponsor, or require a response to a collection of information unless: the collection displays a valid OMB control number; and the Agency informs respondents that they are not required to respond to the collection of information unless it displays a currently valid OMB control number.

Authority and Signature

John L. Henshaw, Assistant Secretary of Labor for Occupational Safety and Health, directed the preparation of this notice. The authority for this notice is the Paperwork Reduction Act of 1995 (44 U.S.C. 3506), and Secretary of Labor's Order No. 5-2002 (67 FR 65008).

Signed at Washington, DC, on January 30, 2004.
John L. Henshaw,
Assistant Secretary of Labor

[FR Doc. 04-2491 Filed 2-4-04; 8:45 am]

BILLING CODE 4510-26-M